DEPARTMENT OF THE INTERIOR

National Park Service

Final Environmental Impact Statement/General Management Plan, Lassen Volcanic National Park, Lassen, Plumas, Shasta and Tehama Counties, CA; Notice of Approval of Record of Decision

Summary: Pursuant to section 102(2)(C) of the National Environmental Policy Act of 1969 (Pub. L. 91-190, as amended) and the regulations promulgated by the Council on Environmental Quality (40 CFR Part 1505.2), the Department of the Interior, National Park Service has prepared and approved a Record of Decision for the Final Environmental Impact Statement/General Management Plan for Lassen Volcanic National Park. The no-action period was initiated November 9, 2001, with the U.S. Environmental Protection Agency's Federal Register (V66, N218, P56673) notification of the filing of the Final Environmental Impact Statement (FEIS).

Decision: As soon as practical the National Park Service will begin to implement the General Management Plan described as the Proposed Action (Alternative C) contained in the FEIS, issued in August, 2001. This alternative was deemed to be the “environmentally preferred” alternative, and it was further determined that implementation of the selected actions will not constitute an impairment of park values or resources. This course of action and three additional alternatives were identified and analyzed in the Final and Draft Environmental Impact Statements (the latter was distributed in August 2000). The full range of foreseeable environmental consequences was assessed, and appropriate mitigation measures identified.

Copies: Interested parties desiring to review the Record of Decision may obtain a copy by contacting the Superintendent, Lassen Volcanic National Park, P.O. Box 100, Mineral, California 96063-0100; or via telephone request at (530) 595-4444.

Dated: February 25, 2002.
John J. Reynolds,
Regional Director, Pacific West Region.

[FR Doc. 02-17906 Filed 7-15-02; 8:45 am]

BILLING CODE 4310-70-P